DEPARTMENT OF HOMELAND SECURITY

Federal Emergency Management Agency

[Docket ID FEMA-2016-0002; Internal Agency Docket No. FEMA-B-1614]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Title 44, Part 65 of the Code of Federal Regulations (44 CFR part 65). The LOMR will be used by insurance agents and others to calculate appropriate flood insurance premium rates for new buildings and the contents of those buildings. For rating purposes, the currently effective community number is shown in the table below and must be used for all new policies and renewals.

DATES: These flood hazard determinations will become effective on the dates listed in the table below and revise the FIRM panels and FIS report in effect prior to this determination for the listed communities.

From the date of the second publication of notification of these changes in a newspaper of local circulation, any person has 90 days in which to request through the community that the Deputy Associate Administrator for Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at www.msc.fema.gov for comparison.

Submit comments and/or appeals to the Chief Executive Officer of the community as listed in the table below.

FOR FURTHER INFORMATION CONTACT: Rick Sacbibit, Chief, Engineering Services Branch, Federal Insurance and Mitigation Administration, FEMA, 500 C Street SW., Washington, DC 20472, (202) 646-7659, or (email) patrick.sacbibit@fema.dhs.gov; or visit the FEMA Map Information eXchange (FMIX) online at www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at www.msc.fema.gov for comparison.

(Catalog of Federal Domestic Assistance No. 97.022, “Flood Insurance.”)

Dated: April 11, 2016.
Roy E. Wright,
Deputy Associate Administrator for Insurance and Mitigation, Department of Homeland Security, Federal Emergency Management Agency.

State and county | Location and case No. | Chief executive officer of community | Community map repository | Online location of letter of map revision | Effective date of modification | Community No.
Alabama:
Tuscaloosa | City of Tuscaloosa (16-04-1952X) | The Honorable Walter Maddox, Mayor, City of Tuscaloosa, P.O. Box 2089, Tuscaloosa, AL 35401 | Engineering Department, 2201 University Boulevard, Tuscaloosa, AL 35401 | http://www.msc.fema.gov/lomc | Jul. 5, 2016 | 010203
Arkansas:
White | City of Beebe (15-06-1373P) | The Honorable Mike Robertson, Mayor, City of Beebe, 321 North Elm Street, Beebe, AR 72012 | City Hall, 321 North Elm Street, Beebe, AR 72012 | http://www.msc.fema.gov/lomc | Jun. 22, 2016 | 050223
White | Unincorporated areas of White County (15-06-1373P) | The Honorable Michael Lincoln, White County Judge, 300 North Spruce Street, Searcy, AR 72143 | White County Office of Emergency Management, 417 North Spruce Street, Searcy, AR 72143 | http://www.msc.fema.gov/lomc | Jun. 22, 2016 | 050467
Colorado:
Douglas | Town of Castle Rock (16-08-0265P) | The Honorable Paul Donahue, Mayor, Town of Castle Rock, 100 North Wilcox Street, Castle Rock, CO 80104 | Utilities Department, 175 Kellogg Court, Castle Rock, CO 80109 | http://www.msc.fema.gov/lomc | Jun. 24, 2016 | 080050
Florida:
Bay | Unincorporated areas of Bay County (15-04-8357P) | The Honorable Mike Nelson, Chairman, Bay County Board of Commissioners, 840 West 11th Street, Panama City, FL 32401 | Bay County Planning and Zoning Division, 840 West 11th Street, Panama City, FL 32401 | http://www.msc.fema.gov/lomc | Jun. 27, 2016 | 120004
Broward | City of Pompano Beach (15-04-9775P) | The Honorable Lamar Fisher, Mayor, City of Pompano Beach, 100 West Atlantic Boulevard, Pompano Beach, FL 33060 | Building Inspections Division, 100 West Atlantic Boulevard, Pompano Beach, FL 33060 | http://www.msc.fema.gov/lomc | Jul. 7, 2016 | 120055
Manatee | Unincorporated areas of Manatee County (16-04-1946X) | The Honorable Vanessa Baugh, Chair, Manatee County Board of Commissioners, P.O. Box 1000, Bradenton, FL 34206 | Manatee County Building and Development Services Department, 1112 Manatee Avenue West, Bradenton, FL 34205 | http://www.msc.fema.gov/lomc | Jul. 5, 2016 | 120153
Miami-Dade | City of Miami (15-04-9311P) | The Honorable Tomás P. Regalado, Mayor, City of Miami, 3500 Pan American Drive, Miami, FL 33133 | Building Department, 444 Southwest 2nd Avenue, 4th Floor, Miami, FL 33130 | http://www.msc.fema.gov/lomc | Jul. 8, 2016 | 120650
Monroe | Unincorporated areas of Monroe County (16-04-0898P) | The Honorable Heather Carruthers, Mayor, Monroe County Board of Commissioners, 500 Whitehead Street, Suite 102, Key West, FL 33040 | Monroe County Building Department, 2798 Overseas Highway, Suite 300, Marathon, FL 33050 | http://www.msc.fema.gov/lomc | Jun. 30, 2016 | 125129
Sarasota | Unincorporated areas of Sarasota County (16-04-1646P) | The Honorable Alan Maio, Chairman, Sarasota County Board of Commissioners, 1660 Ringling Boulevard, Sarasota, FL 34236 | Sarasota County Development Services Department, 1001 Sarasota Center Boulevard, Sarasota, FL 34240 | http://www.msc.fema.gov/lomc | Jun. 23, 2016 | 125144
Seminole | City of Altamonte Springs (16-04-0514P) | The Honorable Patricia Bates, Mayor, City of Altamonte Springs, 225 Newburyport Avenue, Altamonte Springs, FL 32701 | Public Works Department, 950 Calabria Drive, Altamonte Springs, FL 32701 | http://www.msc.fema.gov/lomc | Jun. 29, 2016 | 120290
St. Johns | Unincorporated areas of St. Johns County (16-04-1087P) | The Honorable Jeb Smith, Chairman, St. Johns County Board of Commissioners, 500 San Sebastian View, St. Augustine, FL 32084 | St. Johns County Building Services Division, 4040 Lewis Speedway, St. Augustine, FL 32084 | http://www.msc.fema.gov/lomc | Jun. 28, 2016 | 125147
Volusia | City of Orange City (15-04-9264P) | The Honorable Tom Laputka, Mayor, City of Orange City, 205 East Graves Avenue, Orange City, FL 32763 | City Hall, 205 East Graves Avenue, Orange City, FL 32763 | http://www.msc.fema.gov/lomc | Jul. 5, 2016 | 120633
New York:
Dutchess | Town of Fishkill (16-02-0710P) | The Honorable Robert LaColla, Supervisor, Town of Fishkill, 807 Route 52, Fishkill, NY 12524 | Town Hall, 807 Route 52, Fishkill, NY 12524 | http://www.msc.fema.gov/lomc | Aug. 17, 2016 | 361337
Dutchess | Town of Wappinger (16-02-0710P) | The Honorable Lori A. Jiava, Supervisor, Town of Wappinger, 20 Middlebush Road, Wappingers Falls, NY 12590 | Town Hall, 20 Middlebush Road, Wappingers Falls, NY 12590 | http://www.msc.fema.gov/lomc | Aug. 17, 2016 | 361387
North Carolina:
Buncombe | Unincorporated areas of Buncombe County (15-04-4244P) | The Honorable David Gantt, Chairman, Buncombe County Board of Commissioners, 200 College Street,, Suite 316, Asheville, NC 28801 | Buncombe County Planning Department, 46 Valley Street Asheville, NC 28801 | http://www.msc.fema.gov/lomc | Jun. 30, 2016 | 370031
South Carolina:
Berkeley | Unincorporated areas of Berkeley County (16-04-1799P) | The Honorable William W. Peagler, III, Chairman, Berkeley County Council, 1003 Highway 52, Moncks Corner, SC 29461 | Berkeley County Planning and Zoning Department, 1003 Highway 52, Moncks Corner, SC 29461 | http://www.msc.fema.gov/lomc | Jun. 30, 2016 | 450029
South Dakota:
Lawrence | City of Spearfish (15-08-0993P) | The Honorable Dana Boke, Mayor, City of Spearfish, 625 5th Street, Spearfish, SD 57783 | Municipal Services Center, 625 5th Street, Spearfish, SD 57783 | http://www.msc.fema.gov/lomc | Jun. 24, 2016 | 460046
Pennington | City of Hill City (15-08-0904P) | The Honorable Dave Gray, Mayor, City of Hill City, P.O. Box 395, Hill City, SD 57745 | Planning Department, 243 Deerfield Road, Hill City, SD 57745 | http://www.msc.fema.gov/lomc | Jun. 30, 2016 | 460116
Pennington | Unincorporated areas of Pennington County (15-08-0904P) | The Honorable Lyndell H. Petersen, Chairman, Pennington County Board of Commissioners, 130 Kansas City Street, Suite 100, Rapid City, SD 57701 | Pennington County Planning Department, 832 St. Joseph Street, Rapid City, SD 57701 | http://www.msc.fema.gov/lomc | Jun. 30, 2016 | 460064
Tennessee:
Hamilton | City of Chattanooga (15-04-9959P) | The Honorable Andy Berke, Mayor, City of Chattanooga, 101 East 11th Street, Chattanooga, TN 37402 | Planning Department, 1250 Market Street, Chattanooga, TN 37402 | http://www.msc.fema.gov/lomc | May 6, 2016 | 470072
Texas:
Bexar | City of San Antonio (15-06-4534P) | The Honorable Ivy R. Taylor, Mayor, City of San Antonio, P.O. Box 839966, San Antonio, TX 78283 | Transportation and Capital Improvements Department, Stormwater Division, 1901 South Alamo Street, 2nd Floor, San Antonio, TX 78204 | http://www.msc.fema.gov/lomc | Jun. 22, 2016 | 480045
Bexar | Unincorporated areas of Bexar County (15-06-2058P) | The Honorable Nelson W. Wolff, Bexar County Judge, Paul Elizondo Tower, 101 West Nueva Street, 10th Floor, San Antonio, TX 78205 | Bexar County Public Works Department, 233 North Pecos-La Trinidad Street, Suite 420, San Antonio, TX 78207 | http://www.msc.fema.gov/lomc | Jun. 27, 2016 | 480035
Dallas | City of Mesquite (15-06-2748P) | The Honorable Stan Pickett, Mayor, City of Mesquite, 1515 North Galloway Avenue, Mesquite, TX 75149 | Engineering Division, 1515 North Galloway Avenue, Mesquite, TX 75149 | http://www.msc.fema.gov/lomc | Jun. 17, 2016 | 485490
Denton | Town of Trophy Club (15-06-3923P) | The Honorable Nick Sanders, Mayor, Town of Trophy Club, 100 Municipal Drive, Trophy Club, TX 7626 | Community Development Department, 100 Municipal Drive, Trophy Club, TX 76262 | http://www.msc.fema.gov/lomc | Jul. 7, 2016 | 481606
Denton | Unincorporated areas of Denton County (15-06-3923P) | The Honorable Mary Horn, Denton County Judge, 110 West Hickory Street, 2nd Floor, Denton, TX 76201 | Denton County Public Works and Planning Division, 1505 East McKinney Street, Suite 175, Denton, TX 76209 | http://www.msc.fema.gov/lomc | Jul. 7, 2016 | 480774
Harris | Unincorporated areas of Harris County (15-06-0921P) | The Honorable Ed Emmett, Harris County Judge, 1001 Preston Street, Suite 911, Houston, TX 77002 | Harris County Permit Office, 10555 Northwest Freeway, Houston, TX 77002 | http://www.msc.fema.gov/lomc | Jun. 29, 2016 | 480287
Travis | City of Pflugerville (16-06-0047P) | The Honorable Jeff Coleman, Mayor, City of Pflugerville, P.O. Box 589, Pflugerville, TX 78691 | Development Services Center, 201-B East Pecan Street, Pflugerville, TX 78660 | http://www.msc.fema.gov/lomc | Jul. 11, 2016 | 481028
Utah:
Davis | City of Farmington (15-08-1200P) | The Honorable H. James Talbot, Mayor, City of Farmington, P.O. Box 160, Farmington, UT 84025 | City Hall, 160 South Main Street, Farmington, UT 84025 | http://www.msc.fema.gov/lomc | Jun. 24, 2016 | 490044
Davis | Unincorporated areas of Davis County (15-08-1200P) | The Honorable John Petroff, Jr., Chairman, Davis County Board of Commissioners, P.O. Box 618, Farmington, UT 84025 | Davis County Planning Department, 61 South Main Street, Room 304, Farmington, UT 84025 | http://www.msc.fema.gov/lomc | Jun. 24, 2016 | 490038
Washington | City of St. George (16-08-0186P) | The Honorable Jon Pike, Mayor, City of St. George, 175 East 200 North, St. George, UT 84770 | City Hall, 175 East 200 North, St. George, UT 84770 | http://www.msc.fema.gov/lomc | Jun. 27, 2016 | 490177
Virginia:
Chesterfield | Unincorporated areas of Chesterfield County (15-03-1125P) | The Honorable Steve A. Elswick, Chairman, Chesterfield County Board of Supervisors, P.O. Box 40, Chesterfield, VA 23832 | Chesterfield County Department of Environmental Engineering, 9800 Government Center Parkway, Chesterfield, VA 23832 | http://www.msc.fema.gov/lomc | Jun. 22, 2016 | 510035
Fairfax | Unincorporated areas of Fairfax County (15-03-1061P) | The Honorable Edward L. Long, Jr., Fairfax County Executive, 12000 Government Center Parkway, Fairfax, VA 22035 | Fairfax County Stormwater Planning Division, 12000 Government Center Parkway, Suite 449, Fairfax, VA 22035 | http://www.msc.fema.gov/lomc | Jul. 1, 2016 | 515525
York | Unincorporated areas of York County (16-03-0468P) | The Honorable Jeffrey D. Wassmer, Chairman, York County Board of Supervisors, P.O. Box 532, Yorktown, VA 23690 | York County Stormwater Engineering Division, P.O. Box 532, Yorktown, VA 23690 | http://www.msc.fema.gov/lomc | Jul. 1, 2016 | 510182

[FR Doc. 2016-09459 Filed 4-22-16; 8:45 am]

BILLING CODE 9110-12-P